DEPARTMENT OF HEALTH AND HUMAN SERVICES

Office of the Secretary

Findings of Research Misconduct

AGENCY: Office of the Secretary, HHS.

ACTION: Notice.

SUMMARY: Findings of research misconduct have been made against Darrion Nguyen (Respondent), who was formerly a Laboratory Technician, Division of Pediatric Neurology and Developmental Neuroscience, Baylor College of Medicine (BCM). Respondent engaged in research misconduct in research supported by U.S. Public Health Service (PHS) funds, specifically Office of the Director (OD), National Institutes of Health (NIH), grant DP5 OD026428-01 and National Institute of Neurological Disorders and Stroke (NINDS), NIH, grant K12 NS098482-01. The questioned research was included in a PHS-funded research project progress report (RPPR), specifically DP5 OD026428-04 submitted to OD, NIH. The administrative actions, including supervision for a period of three (3) years, were implemented beginning on May 14, 2024, and are detailed below.

FOR FURTHER INFORMATION CONTACT: Sheila Garrity, JD, MPH, MBA, Director, Office of Research Integrity, 1101 Wootton Parkway, Suite 240, Rockville, MD 20852, (240) 453-8200.

SUPPLEMENTARY INFORMATION: Notice is hereby given that the Office of Research Integrity (ORI) has taken final action in the following case:

Darrion Nguyen, Baylor College of Medicine (BCM): Based on the report of an investigation conducted by BCM and additional analysis conducted by ORI in its oversight review, ORI found that Mr. Darrion Nguyen (Respondent), former Laboratory Technician, Division of Pediatric Neurology and Developmental Neuroscience, BCM, engaged in research misconduct in research supported by PHS funds, specifically OD, NIH, grant DP5 OD026428-01 and NINDS, NIH, grant K12 NS098482-01. The questioned research was included in a PHS-funded RPPR, specifically DP5 OD026428-04 submitted to OD, NIH.

ORI found that Respondent engaged in research misconduct by intentionally, knowingly, or recklessly falsifying and/or fabricating experimental data and results that were included in the following one (1) RPPR, one (1) presentation, one (1) poster, six (6) research records, and two (2) figures of a prospective manuscript:

• DP5 OD026428-04, “Illuminating GABAergic Signaling in Neurodevelopmental Disorders,” submitted to OD, NIH, on July 12, 2021 (hereafter referred to as “DP5 OD026428-04”).

• Elucidating the role of EBF3 haploinsufficiency in HADD syndrome pathogenesis. Jan and Dan Duncan Neurological Research Institute Seminar (NRI) Series, January 6, 2020 (hereafter referred to as “NRI Seminar 2020”).

• Elucidating the role of EBF3 haploinsufficiency in 10q26 deletion and HADD syndrome pathogenesis. Poster presentation, Baylor College of Medicine—Texas Children's Hospital Pediatric Research Symposium, March 24, 2020 (hereafter referred to as “Poster 2020”).

• Research Record “2019-5-1_Cerebellar PC Dens_P0.xlsx” (hereafter referred to as “RR1 2019”).

• Research Record “2019-6-27_Cerebellar PC Dens_P0.xlsx” (hereafter referred to as “RR2 2019”).

• Research Record “2019-5-1_P0 Cerebellum Quants.pzfx” (hereafter referred to as “RR3 2019”).

• Research Record “2019-5-21_DN-Cohort5 (Analyzed).xlsx” (hereafter referred to as “RR4 2019”).

• Research Record “2019-8-28_Partition-Cohorts 1, 2, 3, 4, 5, 6.pzfx” (hereafter referred to as “RR5 2019”).

• Research Record “2019-12-11_Dystonia.xlsx” (hereafter referred to as “RR6 2019”).

• “Fig1—GeneratingNullLines.v5.tif” (hereafter referred to as “PM Figure 1”) and “Fig3—Behavior.v6.png” (hereafter referred to as “PM Figure 3”) in a prospective manuscript with working title “Ebf3 haploinsufficiency perturbs cerebellar development and complex behaviors” (hereafter referred to as the “manuscript”).

Specifically, ORI found that Respondent intentionally, knowingly, or recklessly falsified and/or fabricated:

• the Purkinje Cell (PC) density measurements in the cerebellum lobes of newborn (P0) wild-type (WT) and Early B Cell Factor 3 heterozygous (Ebf3+/−) mice in RR1 2019, RR2 2019, RR3 2019, and Slide 24 of NRI Seminar 2020 by copying and pasting measurement values collected from the histology sections of the brain from a single mouse to falsely represent the data measurements as from the brains of three (3) mice;

• the measurements of the distance between the anchor points in the cerebellum lobes of P0 WT and Ebf3+/− mice in RR1 2019, RR2 2019, and RR3 2019 by copying and pasting measurement values collected from the histology sections of the brain from a single mouse to falsely represent the data measurements as from the brains of three (3) mice;

• the measurements of phosphorylated Histone 3 (PH3) positive neurons in the cerebellum lobes of P0 WT and Ebf3+/− mice in RR1 2019, RR2 2019, RR3 2019, and Slide 28 of NRI Seminar 2020 by copying and pasting measurement values collected from the histology sections of the brain from a single mouse to falsely represent the data measurements as from the brains of three (3) mice;

• the external granule layer (EGL) thickness measurements in the cerebellum lobes of P0 WT and Ebf3+/− mice in RR1 2019, RR2 2019, and RR3 2019 by copying and pasting measurement values collected from the histology sections of the brain from a single mouse to falsely represent the data measurements as from the brains of three (3) mice;

• the manual scoring of the social interaction behavior of Cohort 5 mice in a three-chamber assay in RR4 2019 by copying and pasting the manually scored social interaction behavior values from Cohort 4 mice;

• the interaction data of male mice by inserting fabricated and/or falsified values for two (2) mice that had not been collected as part of the experiment in RR5 2019, Slide 44 of NRI Seminar 2020, Figure F in the “Motor Incoordination and Altered Social Behavior” section of Poster 2020, PM Figure 3 of the manuscript, and Figure 6E of DP5 OD026428-04;

• the number of mice used in the Western blot analysis for the expression of Ebf3 protein in Ebf3−/− mice in PM Figure 1B(iv) of the manuscript, Figure 4A(iii) of DP5 OD026428-04, Slide 16 of NRI Seminar 2020, and Figure C(i) of the “Generation and Characterization of Ebf3Null Alleles” section of Poster 2020; specifically, Western blot data from three (3) mice were falsely represented as data from five (5) mice;

• the hindlimb splay measurements of Ebf3+/+ and Ebf3+/− mice in RR6 2019 and Figure 4D(ii) of DP5 OD026428-04 by changing the severity score of the splay measurements in male and female mice to falsely show enhanced severity of the dystonia symptoms in Ebf3+/− mice;

Respondent entered into a Voluntary Settlement Agreement (Agreement). Respondent neither admits nor denies ORI's findings of research misconduct. This settlement is not an admission of liability on the part of Respondent. Respondent voluntarily agreed to the following:

(1) Respondent will have his research supervised for a period of three (3) years beginning on May 14, 2024 (the “Supervision Period”). Prior to the submission of an application for PHS support for a research project on which Respondent's participation is proposed and prior to Respondent's participation in any capacity in PHS-supported research, Respondent will submit a plan for supervision of Respondent's duties to ORI for approval. The supervision plan must be designed to ensure the integrity of Respondent's research. Respondent will not participate in any PHS-supported research until such a supervision plan is approved by ORI. Respondent will comply with the agreed-upon supervision plan.

(2) The requirements for Respondent's supervision plan are as follows:

i. A committee of 2-3 senior faculty members at the institution who are familiar with Respondent's field of research, but not including Respondent's supervisor or collaborators, will provide oversight and guidance for a period of three (3) years from the effective date of the Agreement. The committee will review primary data from Respondent's laboratory on a quarterly basis and submit a report to ORI at six (6) month intervals setting forth the committee meeting dates and Respondent's compliance with appropriate research standards and confirming the integrity of Respondent's research.

ii. The committee will conduct an advance review of each application for PHS funds, or report, manuscript, or abstract involving PHS-supported research in which Respondent is involved. The review will include a discussion with Respondent of the primary data represented in those documents and will include a certification to ORI that the data presented in the proposed application, report, manuscript, or abstract are supported by the research record.

(3) During the Supervision Period, Respondent will ensure that any institution employing him submits, in conjunction with each application for PHS funds, or report, manuscript, or abstract involving PHS-supported research in which Respondent is involved, a certification to ORI that the data provided by Respondent are based on actual experiments or are otherwise legitimately derived and that the data, procedures, and methodology are accurately reported and not plagiarized in the application, report, manuscript, or abstract.

(4) If no supervision plan is provided to ORI, Respondent will provide certification to ORI at the conclusion of the Supervision Period that his participation was not proposed on a research project for which an application for PHS support was submitted and that he has not participated in any capacity in PHS-supported research.

(5) During the Supervision Period, Respondent will exclude himself voluntarily from serving in any advisory or consultant capacity to PHS including, but not limited to, service on any PHS advisory committee, board, and/or peer review committee.

Dated: May 23, 2024.
Sheila Garrity,
Director, Office of Research Integrity, Office of the Assistant Secretary for Health.

[FR Doc. 2024-11829 Filed 5-29-24; 8:45 am]

BILLING CODE 4150-31-P